DEPARTMENT OF THE INTERIOR

National Park Service

[N6328; NPS-WASO-NAGPRA-NPS0040531; PPWOCRADN0-PCU00RP14.R50000]

Notice of Intended Disposition: U.S. Department of the Interior, Bureau of Land Management, Winnemucca, NV

AGENCY: National Park Service, Interior.

ACTION: Notice.

SUMMARY: In accordance with the Native American Graves Protection and Repatriation Act (NAGPRA), the U.S. Department of the Interior, Bureau of Land Management (BLM) intends to carry out the disposition of human remains removed from Federal or Tribal lands to the lineal descendants, Indian Tribe, or Native Hawaiian organization with priority for disposition in this notice.

DATES: Disposition of the human remains in this notice may occur on or after August 18, 2025. If no claim for disposition is received by July 17, 2026, the human remains in this notice will become unclaimed human remains.

ADDRESSES: Send written claims for disposition of the human remains in this notice to Cedric Streater, Bureau of Land Management, 5100 E. Winnemucca Boulevard, Winnemucca, NV 89445, email cstreater@blm.gov.

SUPPLEMENTARY INFORMATION: This notice is published as part of the National Park Service's administrative responsibilities under NAGPRA. The determinations in this notice are the sole responsibility of the BLM, and additional information on the human remains or cultural items in this notice, including the results of consultation, can be found in the related records. The National Park Service is not responsible for the identifications in this notice.

Abstract of Information Available

Based on the information available, human remains representing, at least, one individual has been reasonably identified. No associated funerary objects are present. On June 15, 2020, a member of the public observed human remains in a crevice within the Guano Cave archaeological site located in the Winnemucca Lake area and reported the discovery to Pershing County Sheriff Office (PCSO) that same day. On June 16, 2020, in conjunction between PCSO, BLM Law Enforcement Officer, and an BLM Archaeologist, the remains were identified as the upper cranium of a skull. Cultural affiliation of these remains were not determined at that time.

The cranium was collected by PCSO and delivered to the Washoe County Regional Medical Examiner's Office on June 16, 2020. The examiner's office identified the remains as human, but could not determine the age, and requested radiocarbon dating testing. The cranium was taken to the University of Nevada, Reno (UNR) on June 20, 2020, for radiocarbon testing. The remains were cataloged by UNR under Forensic Anthropology Report Case 2020-02657 PER. A sample was cut from the left frontal portion of the skull and sent to the Accelerator Mass Spectrometry Laboratory at The Pennsylvania State University for analysis. The sample returned a calibrated radiocarbon date between 6500 and 6310 years before present. After testing was finalized, PCSO passed custody of these remains to the BLM on April 5, 2022.

Determinations

The BLM has determined that:

• The human remains described in this notice represent the physical remains of one individual of Native American ancestry.

• The Alturas Indian Rancheria, California; Big Pine Paiute Tribe of the Owens Valley; Bishop Paiute Tribe; Bridgeport Indian Colony; Burns Paiute Tribe; Cedarville Rancheria, California; Confederated Tribes of the Warm Springs Reservation of Oregon; Fort Bidwell Indian Community of the Fort Bidwell Reservation of Montana; Fort Independence Indian Community of Paiute Indians of the Fort Independence Reservation, California; Fort McDermitt Paiute and Shoshone Tribes of the Fort McDermitt Indian Reservation, Nevada and Oregon; Klamath Tribes; Lone Pine Paiute-Shoshone Tribe; Lovelock Paiute Tribe of the Lovelock Indian Colony, Nevada; Paiute-Shoshone Tribe of the Fallon Reservation and Colony, Nevada; Pit River Tribe, California (includes XL Ranch, Big Bend, Likely, Lookout, Montgomery Creek, and Roaring Creek Rancherias); Pyramid Lake Paiute Tribe of the Pyramid Lake Reservation, Nevada; Reno-Sparks Indian Colony, Nevada; Shoshone-Paiute Tribes of the Duck Valley Reservation, Nevada; Summit Lake Paiute Tribe of Nevada; Susanville Indian Rancheria, California; Te-Moak Tribe of Western Shoshone Indians of Nevada (Four constituent bands: Battle Mountain Band; Elko Band; South Fork Band; and Wells Band); Utu Utu Gwaitu Paiute Tribe of the Benton Paiute Reservation, California; Walker River Paiute Tribe of the Walker River Reservation, Nevada; Winnemucca Indian Colony of Nevada; Yerington Paiute Tribe of the Yerington Colony & Campbell Ranch, Nevada; and the Yomba Shoshone Tribe of the Yomba Reservation, Nevada have priority for disposition of the human remains described in this notice.

Claims for Disposition

Written claims for disposition of the human remains in this notice must be sent to the appropriate official identified in this notice under ADDRESSES. If no claim for disposition is received by July 17, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after August 18, 2025. If competing claims for disposition are received, the BLM must determine the most appropriate claimant prior to disposition. Requests for joint disposition of the human remains are considered a single request and not competing requests. The BLM is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 14, 2025.
Mariah Soriano,
Acting Manager, National NAGPRA Program.

[FR Doc. 2025-13381 Filed 7-16-25; 8:45 am]

BILLING CODE 4312-52-P